NATIONAL AERONAUTICS AND SPACE ADMINISTRATION

[Notice (09-054)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: June 16, 2009.

FOR FURTHER INFORMATION CONTACT: Linda B. Blackburn, Patent Counsel, Langley Research Center, Mail Code 141, Hampton, VA 23681-2199; telephone (757) 864-3221; fax (757) 864-9190.

NASA Case No. LAR-17384-1: Advanced Modified High Performance Synthetic Jet Actuator with Curved Chamber;

NASA Case No. LAR-17390-1: Advanced High Performance Horizontal Piezoelectric Hybrid Synthetic Jet Actuator;

NASA Case No. LAR-17416-1: Integrated Universal Chemical Detector with Selective Diffraction Array;

NASA Case No. LAR-17112-2: Multilayer Electroactive Polymer Composite Material;

NASA Case No. LAR-17547-1: Multiple-Wavelength Tunable Laser;

NASA Case No. LAR-17154-2: Sol-Gel Based Oxidation Catalyst and Coating System Using Same;

NASA Case No. LAR-17736-1: Controlled Deposition and Alignment of Carbon Nanotubes;

NASA Case No. LAR-17629-1: Method and Apparatus for Shape and End Position Determination Using an Optical Fiber;

NASA Case No. LAR-17382-1: Advanced High Performance Vertical Hybrid Synthetic Jet Actuator;

NASA Case No. LAR-17759-1: Multilayer Electroactive Polymer Composite Material.

Dated: June 10, 2009.
Richard W. Sherman,
Deputy General Counsel.

[FR Doc. E9-14052 Filed 6-15-09; 8:45 am]

BILLING CODE P